DEPARTMENT OF THE INTERIOR

Fish and Wildlife Service

Neotropical Migratory Bird Conservation Act: Request for Grants Proposals for Year 2003

AGENCY: Fish and Wildlife Service, Interior.

ACTION: Notice of request for proposals.

SUMMARY: The purpose of this notice is to advise the public that the Fish and Wildlife Service (Service) is accepting proposals for funding under the Neotropical Migratory Bird Conservation Act (Act) program. Projects may be for protection and management of neotropical migratory bird populations; maintenance, management, protection, and restoration of their habitats; research and monitoring; law enforcement; and community outreach and education. Projects may be located in the United States, Latin America, or the Caribbean. Projects require matching funds.

DATES: Proposals must be sent no later than Friday, January 31, 2003.

ADDRESSES: Application materials may be found at http://birdhabitat.fws.gov. Proposals may be submitted as an electronic mail attachment to neotropical@fws.gov, or sent on a computer disk to: NMBCA Program, Division of Bird Habitat Conservation, U.S. Fish and Wildlife Service, Mail Stop MBSP—4075, 4401 North Fairfax Drive, Arlington, Virginia USA 22203.

FOR FURTHER INFORMATION CONTACT: Mr. Doug Ryan or Office Secretary, Division of Bird Habitat Conservation, (703) 358-1784; facsimile (703) 358-2282.

SUPPLEMENTARY INFORMATION: The purposes of the Neotropical Migratory Bird Conservation Act (Act) are to:

1. Perpetuate healthy populations of neotropical migratory birds;

2. Assist in the conservation of these birds by supporting conservation initiatives in the United States, Latin America, and the Caribbean; and

3. Provide financial resources and foster international cooperation for those initiatives.

The Act authorizes $5 million for this program, and Congress appropriated $3 million for Fiscal Year (FY) 2002. The program is expected to be funded in FY 2003. At a minimum, 75 percent of this money will be available for projects outside the United States. The maximum individual award for FY2003 will be $250,000. Federal funds requested under the Act must be matched 3:1 by non-Federal funds. That is, for every U.S. Federal dollar, three non-U.S. Federal dollars are required for the project. For projects in the United States, the non-Federal share must be in cash. For projects in Latin America and the Caribbean, the non-Federal share may be cash or an in-kind contribution.

Projects may be located in the United States and in all countries of Latin America and the Caribbean, with the exception of Cuba. Projects in Canada are not eligible for this funding.

An applicant may be an individual, corporation, partnership, trust, association, other private entity, government agency in the United States or a foreign country, or an international organization.

The information collection requirements associated with grant proposals under the Act are approved under Office of Management and Budget (OMB) control number 1018-0113, which expires on November 30, 2005.

An agency may not conduct or sponsor, and a person is not required to respond to, a collection of information unless it displays a currently valid OMB control number. The information collection solicited: is necessary to gain a benefit in the form of a grant, as determined by the Fish and Wildlife Service; is necessary to determine the eligibility and relative value of projects; results in an approximate paperwork burden of 40 hours per application; and does not carry a premise of confidentiality. The information collections in this program will not be part of a system of records covered by the Privacy Act (5 U.S.C. 552(a)).

Dated: November 14, 2002.
Steve Williams,
Director.

[FR Doc. 02-31836 Filed 12-17-02; 8:45 am]

BILLING CODE 4310-55-P